DEPARTMENT OF DEFENSE

Office of the Secretary

Defense Advisory Committee on Women in the Services; Notice of Federal Advisory Committee Meeting

AGENCY: Under Secretary of Defense for Personnel and Readiness, Department of Defense.

ACTION: Notice of Federal Advisory Committee meeting.

SUMMARY: The Department of Defense (DoD) is publishing this notice to announce that the following Federal Advisory Committee meeting of the Defense Advisory Committee on Women in the Services will take place.

DATES: Day 1—Open to the public Tuesday, December 11, 2018 from 8:00 a.m. to 11:45 a.m. Day 2—Open to the public Wednesday, December 12, 2018 from 8:00 a.m. to 11:00 a.m.

ADDRESSES: The address of the open meeting is the Hilton Alexandria—Mark Center, 5000 Seminary Rd., Alexandria, VA 22311.

FOR FURTHER INFORMATION CONTACT: Colonel Toya J. Davis, U.S. Army, (703) 697-2122 (Voice), 703-614-6233 (Facsimile), toya.j.davis.mil@mail.mil (Email). Mailing address is 4800 Mark Center Drive, Suite 04J25-01, Alexandria, VA 22350. Website: http://dacowits.defense.gov. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of the meeting is for the DACOWITS to receive briefings and updates relating to their current work. The meeting will open with the Designated Federal Officer (DFO) giving a status update on the DACOWITS' requests for information. Day one will start with two separate briefings from the Military Services on the following topics: Gender Representation Among Instructors/Trainers; and Breastfeeding and Lactation Support. There will be a Public Comment period at the end of day one. The second day of the meeting will open with a briefing from Military Services regarding their Physical Fitness Tests. This will be followed by a briefing by DoD on Childcare Resources. Lastly the DACOWITS will hold an awards ceremony for departing members.

Agenda: Tuesday, December 11, 2018, from 8:00 a.m. to 11:45 a.m.—Welcome, Introductions, and Announcements; Request for Information Status Update; Briefings and DACOWITS discussion on: Gender Representation Among Instructors/Trainers; Breastfeeding and Lactation Support; and a Public Comment period. Wednesday, December 12, 2018, from 8:00 a.m. to 11:00 a.m.—Welcome and Announcements; Briefing and DACOWITS discussion on the Military Services' Physical Fitness Tests; Briefing by DoD on Childcare Resources; and an Awards Ceremony.

Meeting Accessibility: Pursuant to 5 U.S.C. 552b, as amended, and 41 CFR 102-3.140 through 102-3.165, this meeting is open to the public, subject to the availability of space.

Written Statements: Pursuant to 41 CFR 102-3.140, and section 10(a)(3) of the FACA, interested persons may submit a written or oral statement to the DACOWITS. Individuals submitting a written statement must submit their statement no later than 5:00 p.m., Monday, December 3, 2018 to Mr. Robert Bowling (703) 697-2122 (Voice), 703-614-6233 (Facsimile), osd.pentagon.ousd-p-r.mbx.dacowits@mail.mil (Email). Mailing address is 4800 Mark Center Drive, Suite 04J25-01, Alexandria, VA 22350. If a written statement is not received by Monday, December 3, 2018, prior to the meeting, which is the subject of this notice, then it may not be provided to or considered by the DACOWITS. If members of the public are interested in making an oral statement, a written statement should be submitted. After reviewing the written comments, the Chair and the DFO will determine if the requesting persons are permitted to make an oral presentation of their issue during an open portion of this meeting or at a future meeting. The DFO will review all timely submissions with the DACOWITS Chair and ensure they are provided to the members of the Committee.

Dated: November 5, 2018.
Aaron T. Siegel,
Alternate OSD .Federal Register Liaison Officer, Department of Defense.

[FR Doc. 2018-24519 Filed 11-8-18; 8:45 am]

BILLING CODE 5001-06-P